ENVIRONMENTAL PROTECTION AGENCY

[FRL-9448-01-OAR]

Inventory of U.S. Greenhouse Gas Emissions and Sinks: 1990-2020

Correction

In notice document 2022-02694, appearing on page 8583 in the issue of Tuesday, February 15, 2022, make the following correction:

On page 8583, in the second column, in the DATES section, in the fourth line, “March 11, 2022” is corrected to read “March 17, 2022”.

[FR Doc. C1-2022-02694 Filed 2-25-22; 8:45 am]

BILLING CODE 0099-10-P